Title 3—

The President

Proclamation 8714 of September 16, 2011

Constitution Day and Citizenship Day, Constitution Week, 2011

By the President of the United States of America

A Proclamation

In the summer of 1787, delegates from the States gathered in Philadelphia to build a new framework for our young republic. Our Constitution’s Framers represented diverse backgrounds, and on key issues, they were divided. Yet despite their differences, they courageously joined together in common purpose to create “a more perfect Union.” After 4 months of fierce debate and hard-fought compromise, the delegates signed the Constitution of the United States.

For more than two centuries, the Constitution has presided as the supreme law of the land, keeping our leaders true to America’s highest ideals and guaranteeing the fundamental rights that make our country a beacon of hope to all peoples seeking freedom and justice. Together with the Bill of Rights, our Constitution is the backbone of our government and the basis of our liberties. Even while retaining its structure, our founding document has grown with our Nation’s conscience, amended over the years to extend America’s promise to citizens of every race, gender, and creed.

Americans are defined not by bloodlines or allegiance to any one leader or faith, but by our shared ideals of liberty, equality, and justice under the law. We are a Nation of immigrants, built and sustained by people who have brought their talents, drive, and entrepreneurial spirit to our shores. Generations of newcomers have journeyed to this land because they believed in what our country stands for.

Every year, thousands of candidates for citizenship commemorate Constitution Day and Citizenship Day by becoming American citizens. These men and women have respected our laws and learned our history, and some have served in our military. Today, we invite them to join us in writing the next great chapter of the American story.

In signing the Constitution, the Framers provided a model of American leadership for generations to come. Through controversy and division, they built a lasting structure of government that began with the words, “We the People.” This week, as we celebrate our Founders’ timeless vision, we resolve to stay true to their spirit of patriotism and unity.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2011, as Constitution Day and Citizenship Day, and September 17 through September 23, 2011, as Constitution Week. I encourage Federal, State, and local officials, as well as leaders of civic, social, and educational organizations, to conduct ceremonies and programs that bring together community members to reflect on the importance of active citizenship, recognize the enduring strength of our Constitution, and reaffirm our commitment to the rights and obligations of citizenship in this great Nation.

IN WITNESS WHEREOF, I have hereunto set my hand this sixteenth day of September, in the year of our Lord two thousand eleven, and of the Independence of the United States of America the two hundred and thirty-sixth.

[FR Doc. 2011-24438

Filed 9-20-11; 11:15 am]

Billing code 3195-W1-P